DEPARTMENT OF TRANSPORTATION

Federal Aviation Administration

14 CFR Part 39

[Docket No. FAA-2021-0020; Project Identifier MCAI-2020-01639-R; Amendment 39-21536; AD 2021-10-03]

RIN 2120-AA64

Airworthiness Directives; Airbus Helicopters

AGENCY: Federal Aviation Administration (FAA), DOT.

ACTION: Final rule.

SUMMARY: The FAA is superseding Airworthiness Directive (AD) 2019-03-12 for certain Airbus Helicopters Model EC225LP helicopters. AD 2019-03-12 required repetitively inspecting, cleaning, and lubricating each life raft inflation cylinder percussion system bellcrank (bellcrank). This new AD continues to require the actions specified in AD 2019-03-12, and requires replacing any affected bellcrank with a serviceable bellcrank, which terminates the repetitive actions. This AD was prompted by reports of jammed bellcranks in the life raft jettison inflation cylinder percussion system. The actions of this AD are intended to address an unsafe condition on these products.

DATES: This AD is effective June 22, 2021.

The Director of the Federal Register approved the incorporation by reference of a certain publication listed in this AD as of June 22, 2021.

ADDRESSES: For service information identified in this final rule, contact Airbus Helicopters, 2701 N Forum Drive, Grand Prairie, TX 75052; telephone 972-641-0000 or 800-232-0323; fax 972-641-3775; or at https://www.airbus.com/helicopters/services/technical-support.html. You may view this referenced service information at the FAA, Office of the Regional Counsel, Southwest Region, 10101 Hillwood Pkwy., Room 6N-321, Fort Worth, TX 76177. For information on the availability of this material at the FAA, call 817-222-5110. It is also available on the internet at https://www.regulations.gov by searching for and locating Docket No. FAA-2021-0020.

Examining the AD Docket

You may examine the AD docket on the internet at https://www.regulations.gov in Docket No. FAA-2021-0020; or in person at Docket Operations between 9 a.m. and 5 p.m., Monday through Friday, except Federal holidays. The AD docket contains this AD, the European Union Aviation Safety Agency (EASA) AD, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: Blaine Williams, Aviation Safety Engineer, Los Angeles ACO Branch, 3960 Paramount Boulevard, Lakewood, CA 90712 4137; telephone 562-627-5371; email blaine.williams@faa.gov.

SUPPLEMENTARY INFORMATION:

Background

The EASA, which is the Technical Agent for the Member States of the European Union, has issued EASA AD 2019-0287, dated November 27, 2019 (EASA AD 2019-0287) (also referred to as the Mandatory Continuing Airworthiness Information, or the MCAI), to correct an unsafe condition for certain Airbus Helicopters Model EC225LP helicopters. EASA AD 2019-0287 supersedes EASA AD 2019-0102, dated May 9, 2019. EASA AD 2019-0102, dated May 9, 2019, superseded EASA AD 2016-0200, dated October 11, 2016, which prompted FAA AD 2019-03-12, Amendment 39-19564 (84 FR 8250, March 7, 2019) (AD 2019-03-12). You may examine the MCAI in the AD docket on the internet at https://www.regulations.gov by searching for and locating Docket No. FAA-2021-0020.

The FAA issued a notice of proposed rulemaking (NPRM) to amend 14 CFR part 39 to supersede AD 2019-03-12. AD 2019-03-12 applied to certain Airbus Helicopters Model EC225LP helicopters. The NPRM published in the Federal Register on February 26, 2021 (86 FR 11659). The NPRM was prompted by reports of jammed bellcranks in the life raft inflation cylinder percussion system. The NPRM proposed to continue to require the actions specified in AD 2019-03-12, and to require replacing any affected bellcrank with a serviceable bellcrank, which would terminate the repetitive actions. The FAA is issuing this AD to address jammed bellcranks in the life raft jettison inflation cylinder percussion system. This condition could result in failure of a life raft to release in an emergency and subsequent injury to occupants. See the MCAI for additional background information.

Discussion of Final Airworthiness Directive

Comments

The FAA gave the public the opportunity to participate in developing this final rule, but the FAA did not receive any comments on the NPRM or on the determination of the cost to the public.

Conclusion

The FAA reviewed the relevant data and determined that air safety and the public interest require adopting this final rule as proposed, except for minor editorial changes and updating paragraph (m)(1) of this AD. The FAA has determined that these minor changes:

• Are consistent with the intent that was proposed in the NPRM for addressing the unsafe condition; and

• Do not add any additional burden upon the public than was already proposed in the NPRM.

Related Service Information Under 1 CFR Part 51

Airbus Helicopters has issued Alert Service Bulletin EC225-25A211, Revision 1, dated October 23, 2019. This service information specifies procedures for replacing any affected life raft release bellcrank with a serviceable bellcrank. This service information is reasonably available because the interested parties have access to it through their normal course of business or by the means identified in the ADDRESSES section.

Other Related Service Information

Airbus Helicopters has also issued Emergency Alert Service Bulletin No. 05A050, Revision 0, dated July 22, 2016; and Emergency Alert Service Bulletin No. 05A050, Revision 1, dated April 3, 2019. This service information specifies procedures for cleaning and lubricating each bellcrank and pivot link of the life raft inflation cylinder percussion system and removing any corrosion.

Differences Between This AD and the MCAI

EASA AD 2019-0287 requires replacing each affected bellcrank with a serviceable part within 6 months after the effective date of that AD. This AD requires replacing each affected bellcrank with a serviceable part within 6 months after the effective date of this AD, or before the next operation over water, whichever occurs first.

Costs of Compliance

The FAA estimates that this AD affects 28 helicopters of U.S. Registry. Labor rates are estimated at $85 per work-hour. Based on these numbers, the FAA estimates that operators may incur the following costs in order to comply with this AD.

Estimated Costs for Required Actions
Action | Labor cost | Parts cost | Cost per product | Cost on U.S. operators
Retained actions from AD 2019-03-12 | 16 work-hours × $85 per hour = $1,360 | Minimal | $1,360 | $38,080
New actions | 4 work-hours × $85 per hour = $340 | $1,646 | 1,986 | 55,608

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-03-12, Amendment 39-19564 (84 FR 8250, March 7, 2019); and

b. Adding the following new AD:

2021-10-03 Airbus Helicopters: Amendment 39-21536; Docket No. FAA-2021-0020; Project Identifier MCAI-2020-01639-R.

(a) Effective Date

This airworthiness directive (AD) is effective June 22, 2021.

(b) Affected ADs

This AD replaces AD 2019-03-12, Amendment 39-19564 (84 FR 8250, March 7, 2019) (AD 2019-03-12).

(c) Applicability

This AD applies to Airbus Helicopters Model EC225LP helicopters, all manufacturer serial numbers, certificated in any category, equipped with emergency life rafts installed in the multi-purpose sponsons.

(d) Subject

Joint Aircraft System Component (JASC) Code 2564, Life Raft.

(e) Reason

This AD was prompted by reports of jammed bellcranks in the life raft inflation cylinder percussion system. The FAA is issuing this AD to address jammed bellcranks in the life raft jettison inflation cylinder percussion system. This condition could result in failure of a life raft to release in an emergency and subsequent injury to occupants.

(f) Compliance

Comply with this AD within the compliance times specified, unless already done.

(g) Definitions

For the purposes of this AD, the definitions specified in paragraphs (g)(1) through (4) of this AD apply.

(1) Group 1: Helicopters that have an affected part installed.

(2) Group 2: Helicopters that do not have an affected part installed. A helicopter that embodies Airbus Helicopters Modification 07 28457 in production is a Group 2 helicopter, provided the helicopter remains in that configuration.

(3) Affected part: Life raft release bell cranks part number (P/N) 332A41-4396-20 (left-hand (LH) side) and P/N 332A41-4396-21 (right-hand (RH) side).

(4) Serviceable part: Life raft release bell cranks P/N 332A41-4396-22 (LH) and P/N 332A41-4396-23 (RH).

(h) Retained Repetitive Actions, With Specified Helicopter Group and New Note

This paragraph restates the requirements of paragraph (e) of AD 2019-03-12, with a specified helicopter group and new Note 1. For Group 1: Before further flight, and thereafter at intervals not to exceed 6 months:

(1) Clean each bellcrank and pivot link and inspect each bellcrank hole for corrosion. If there is any corrosion in a bellcrank hole:

(i) Remove the corrosion without exceeding a maximum depth of 0.1 millimeter (0.004 inch).

(ii) Clean each pivot link using 400-grain abrasive paper.

(iii) Apply corrosion protectant (Alodine 1200 or equivalent) to each bellcrank hole.

(2) Lubricate each bellcrank hole with grease before assembling the bellcrank.

Note 1 to paragraph (h): Airbus Helicopters Emergency Alert Service Bulletin No. 05A050, Revision 0, dated July 22, 2016; and Airbus Helicopters Emergency Alert Service Bulletin No. 05A050, Revision 1, dated April 3, 2019; specify procedures for cleaning and lubricating each bellcrank and pivot link of the life raft inflation cylinder percussion system and removing any corrosion.

(i) New Requirement of This AD: Bellcrank Replacement

For Group 1: Within 6 months after the effective date of this AD, or before the next operation over water, whichever occurs first, replace each affected bellcrank with a serviceable part, as defined in paragraph (g)(4) of this AD, in accordance with Paragraph 3.B.2. of the Accomplishment Instructions of Airbus Helicopters Alert Service Bulletin EC225-25A211, Revision 1, dated October 23, 2019; except where the service information specifies to remove and scrap certain parts, this AD requires removing those parts from service instead.

(j) Terminating Action for Repetitive Actions Required by Paragraph (h) of This AD

Accomplishment of the bellcrank replacement required by paragraph (i) of this AD is terminating action for the repetitive actions required by paragraph (h) of this AD for that helicopter only.

(k) Parts Installation Limitation

(1) For Group 1: After the replacement required by paragraph (i) of this AD is done, only a serviceable part, as defined in paragraph (g)(4) of this AD, is allowed to be installed on that helicopter.

(2) For Group 2: As of the effective date of this AD, only a serviceable part, as defined in paragraph (g)(4) of this AD, is allowed to be installed on any helicopter.

(l) Special Flight Permit

Special flight permits, as described in 14 CFR 21.197 and 21.199, are not allowed.

(m) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (n)(2) of this AD. Information may be emailed to: 9-AVS-AIR-730-AMOC@faa.gov.

(2) Before using any approved AMOC, notify your appropriate principal inspector, or lacking a principal inspector, the manager of the local flight standards district office/certificate holding district office.

(n) Related Information

(1) Refer to Mandatory Continuing Airworthiness Information (MCAI) European Union Aviation Safety Agency (EASA) AD 2019-0287, dated November 27, 2019, for related information. This MCAI may be found in the AD docket on the internet at https://www.regulations.gov by searching for and locating Docket No. FAA-2021-0020.

(2) For more information about this AD, contact Blaine Williams, Aviation Safety Engineer, Los Angeles ACO Branch, 3960 Paramount Boulevard, Lakewood, CA 90712 4137; telephone 562-627-5371; email blaine.williams@faa.gov.

(3) Service information identified in this AD that is not incorporated by reference is available at the addresses specified in paragraphs (o)(3) and (4) of this AD.

(o) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin EC225-25A211, Revision 1, dated October 23, 2019.

(ii) [Reserved]

(3) For service information identified in this AD, contact Airbus Helicopters, 2701 N Forum Drive, Grand Prairie, TX 75052; telephone 972-641-0000 or 800-232-0323; fax 972-641-3775; or at https://www.airbus.com/helicopters/services/technical-support.html.

(4) You may view this service information at FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on April 27, 2021.
Gaetano A. Sciortino,
Deputy Director for Strategic Initiatives, Compliance & Airworthiness Division, Aircraft Certification Service.

[FR Doc. 2021-10397 Filed 5-17-21; 8:45 am]

BILLING CODE 4910-13-P